INTERNATIONAL TRADE COMMISSION

[Investigations Nos. 701-TA-430A and 430B and 731-TA-1019A and 1019B (Preliminary) ]¹

Durum and Hard Red Spring Wheat From Canada

Determinations

¹ Subsequent to the Commission's institution of these investigations, the Department of Commerce (Commerce) initiated separate countervailing duty investigations on durum wheat (C-122-846) and hard red spring wheat (C-122-848), and separate antidumping investigations on durum wheat (A-122-845) and hard red spring wheat (A-122-847). For consistency, the Commission is further delineating its investigation numbers for the duration of the investigations as follows: investigations Nos. 701-TA-430A and 731-TA-1019A will cover durum wheat and investigations Nos. 701-TA-430B and 731-TA-1019B will cover hard red spring wheat.

On the basis of the record ² developed in the subject investigations, the United States International Trade Commission (Commission) determines,³ pursuant to sections 703(a) and 733(a) of the Tariff Act of 1930 (19 U.S.C. 1671b(a) and 1673b(a)) (the Act), that there is a reasonable indication that industries in the United States are materially injured by reason of imports from Canada of durum and hard red spring wheat, provided for in subheadings 1001.10.00, 1001.90.10, and 1001.90.20 of the Harmonized Tariff Schedule of the United States, that are alleged to be subsidized by the Government of Canada and sold in the United States at less than fair value (LTFV).

² The record is defined in section 207.2(f) of the Commission's Rules of Practice and Procedure (19 CFR 207.2(f)).

³ Commissioner Stephen Koplan dissenting.

Commencement of Final Phase Investigations

Pursuant to section 207.18 of the Commission's rules, the Commission also gives notice of the commencement of the final phase of its investigations. The Commission will issue a final phase notice of scheduling, which will be published in the Federal Register as provided in section 207.21 of the Commission's rules, upon notice from Commerce of affirmative preliminary determinations in the investigations under sections 703(b) and 733(b) of the Act, or, if the preliminary determinations are negative, upon notice of affirmative final determinations in those investigations under sections 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On September 13, 2002, a petition was filed with the Commission and Commerce by the North Dakota Wheat Commission (hard red spring wheat), Bismarck, ND; the Durum Growers Trade Action Committee (durum wheat), Bismarck, ND; ⁴ and the U.S. Durum Growers Association (durum wheat), Bismarck, ND, alleging that industries in the United States are materially injured and are threatened with material injury by reason of subsidized and LTFV imports of durum and hard red spring wheat from Canada. Accordingly, effective September 13, 2002, the Commission instituted countervailing duty and antidumping duty investigations Nos. 701-TA-430 and 731-TA-1019 (Preliminary).

⁴ In a petition supplement dated September 24, 2002, the petitioners informed Commerce that, with respect to the petition on durum wheat, the petitioners were replacing the North Dakota Wheat Commission with the Durum Growers Trade Action Committee.

Notice of the institution of the Commission's investigations and of a public conference to be held in connection therewith was given by posting copies of the notice in the Office of the Secretary, U.S. International Trade Commission, Washington, DC, and by publishing the notice in the Federal Register of September 25, 2002 (67 FR 60256). The conference was held in Washington, DC, on October 4, 2002, and all persons who requested the opportunity were permitted to appear in person or by counsel.

The Commission transmitted its determinations in these investigations to the Secretary of Commerce on November 25, 2002.

The views of the Commission are contained in USITC Publication 3563 (December 2002), entitled Durum and Hard Red Spring Wheat from Canada: Investigations Nos. 701-TA-430A and 430B and 731-TA-1019A and 1019B (Preliminary).

Issued: November 25, 2002.
By order of the Commission.
Marilyn R. Abbott,
Secretary to the Commission.

[FR Doc. 02-30444 Filed 11-29-02; 8:45 am]

BILLING CODE 7020-02-P